DEPARTMENT OF ENERGY

Federal Energy Regulatory Commission

Notice Announcing Filing Priority for Preliminary Permit Applications

| Project No.
Lock+ Hydro Friends Fund XLVI | 13734-000
FFP Missouri 17, LLC | 3754-000
Solia 3 Hydroelectric, LLC | 13765-000
Three Rivers Hydro LLC | 13783-000

On March 24, 2011, the Commission held a drawing to determine priority among competing preliminary permit applications with identical filing times. In the event that the Commission concludes that none of the applicants' plans are better adapted than the others to develop, conserve, and utilize in the public interest the water resources of the region at issue, the priority established by this drawing will serve as the tiebreaker. Based on the drawing, the order of priority is as follows:

| Project No.
1. Lock+ Hydro Friends Fund XLVI | 13734-000
2. Three Rivers Hydro LLC | 13783-000
3. Solia 3 Hydroelectric, LLC | 13765-000
4. FFP Missouri 17, LLC | 13754-000

Dated: March 25, 2011.
Nathaniel J. Davis, Sr.,
Deputy Secretary.

[FR Doc. 2011-7854 Filed 4-1-11; 8:45 am]

BILLING CODE 6717-01-P